DEPARTMENT OF AGRICULTURE

Farm Service Agency

Information Collection; Tobacco Marketing Quota Referendum Ballot

AGENCY: Farm Service Agency, USDA.

ACTION: Notice; request for public comment.

SUMMARY: In accordance with the Paperwork Reduction Act of 1995, the Farm Service Agency (FSA) is seeking comments from all interested individuals and organizations on the extension of a currently approved information collection associated with Tobacco Marketing Quota Referendum Ballot. This information collection is necessary for tobacco farmers and other eligible persons to vote on favoring or opposing the marketing quotas for any kind of tobacco.

DATES: Comments about this notice must be received in writing on or before September 9, 2002 to be assured of consideration. Comments received after that date will be considered to the extent practicable.

ADDRESSES: Comments concerning this notice should be addressed to Tobacco and Peanuts Division, FSA, USDA, 1400 Independence Avenue, SW., Room 5750-S, STOP 0514, Washington, DC 20250-0514. Comments may be submitted via facsimile to (202) 720-0549 or by e-mail to: tob_comments@wdc.usda.gov.

FOR FURTHER INFORMATION CONTACT: Ann Wortham, Tobacco and Peanuts Division, (202) 720-2715 and ann_wortham@wdc.usda.gov. The public may inspect comments received and the copies of the forms at Tobacco and Peanuts Division, FSA, 1400 Independence Avenue, SW., Room 5750-S, during normal business hours. Visitors are encouraged to call ahead to (202) 720-7413 to facilitate entry to the building. Individuals who use telecommunication devices for the deaf (TDD) may call the Federal Information Relay Service (FIRS) at 1-800-877-8339 between 8 a.m. and 8 p.m., Eastern Standard Time, Monday through Friday.

SUPPLEMENTARY INFORMATION:

Description of Information Collection

Title: Tobacco Marketing Quota Referenda Ballot.

OMB Control Number: 0560-0182.

Form Number: MQ-5.

Type of Request: Extension with Revision of a Currently Approved Information Collection.

Abstract: This information collection is used by the Farm Service Agency (FSA) in administering the national tobacco marketing quota program; specifically, the Agricultural Adjustment Act of 1938 (the 1938 Act) requires that national tobacco marketing quotas be established each year only if tobacco producers favor it for the next three years. FSA County offices collect information from the voters by mailing them a Ballot Form or polling them at certain places. The Ballot Form (MQ5) contains a question of favoring the marketing quotas for a certain kind of tobacco with “YES” or “NO” answer to the question. Eligible to vote are tobacco allotment and quota owners and growers who share in the risk of producing the kind of tobacco for which a referendum is held. The FSA County Committee tabulates the votes and the final count is used to determine whether or not a national marketing quota will be established annually for the certain kinds of tobacco. If the information is not collected, the requirements of the 1938 Act will not be met and FSA would have no way to determine whether tobacco farmers want to continue the national marketing quotas and the price support program. FSA would lack the necessary information to administer the national tobacco marketing quotas.

Estimate of Annual Burden: 5 minutes.

Type of Respondents: Tobacco farmers who are eligible to vote in a referendum.

Estimated Annual Number of Respondents: 155,000.

Estimated Annual Number of Responses Per Respondent: 1.

Estimated Total Annual Burden on Respondents: 13,000 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval.

Signed at Washington, DC, on June 28, 2002.
James R. Little,
Administrator, Farm Service Agency.

[FR Doc. 02-17122 Filed 7-8-02; 8:45 am]

BILLING CODE 3410-05-P